DEPARTMENT OF COMMERCE

Census Bureau

Proposed Information Collection; Comment Request; Small Business Pulse Survey

AGENCY: U.S. Census Bureau, Commerce.

ACTION: Notice.

SUMMARY: The Department of Commerce, as part of its continuing effort to reduce paperwork and respondent burden and as required by the Paperwork Reduction Act of 1995, invites the general public and other Federal agencies to take this opportunity to comment on a proposed extension of the collection of information on the effects of the COVID-19 pandemic on the functioning of small businesses. The original collection was approved by the Office of Management and Budget on April 22, 2020 under the emergency approval provisions of the Paperwork Reduction Act.

DATES: To ensure consideration, written comments must be submitted on or before July 20, 2020.

ADDRESSES: Direct all written comments to Thomas Smith, PRA Liaison, U.S. Census Bureau, 4600 Silver Hill Road, Room 7K250A, Washington, DC 20233 (or via the internet at PRAcomments@doc.gov). You may also submit comments, identified by Docket Number USBC-2020-0012, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Nick Orsini, Associate Director for Economic Programs, ADEP-8H132, Washington, DC 20278 (or via the internet at nick.orsini@census.gov).

SUPPLEMENTARY INFORMATION:

I. Abstract

On April 22, 2020, The Office of Management and Budget (OMB) granted approval under the emergency approval provisions of the Paperwork Reduction Act (PRA) for the U.S. Census Bureau to immediately begin collecting information on the effects of the COVID-19 pandemic on the functioning of small businesses through the Small Business Pulse Survey (SBPS).

The SBPS will provide weekly national, state, and large MSA information on changes in business operations, employment, worker hours, and the availability of consumer goods and services are impacting American life. The rapidly changing dynamics of the COVID-19 pandemic creates an acute need for data on small businesses that sheds light on the situation as it is unfolding. The Census Bureau has the infrastructure in place to provide large-scale coverage across all non-farm single-location employer businesses. Our proposed survey will reach nearly 1M businesses.

Additionally, the Census Bureau proposes this platform as a pilot to develop a capability that can be used for future economic crises to provide near real time information to policymakers and the public. Through this process, the Census Bureau will learn valuable insights about executing a high-frequency, quick turnaround business survey, including systems development, data collection and quality, and coordination with existing Census Bureau business surveys and dissemination programs. This survey allows us to test internal processes and systems, while also gauging external interest and understanding how businesses react to such a collection. We will also gain insights about the quality of the data in high frequency collections and how it could be improved in future iterations. This pilot may also serve as a model for a more encompassing federal statistical community collection activity.

The 16-question, 5-minute, multiple choice survey captures information on concepts such as business closings, changes in employment and hours, disruptions to supply chain, and expectations for future operations. These economic data will be used to understand how changes due to the response to the COVID-19 pandemic are affecting American businesses and the U.S. economy.

The sample is designed to be sufficiently large to allow publication of survey results by sector and state and for the top most populous 50 MSAs, but this is contingent on response and the ability to meet disclosure avoidance thresholds.

Due to the need to begin collecting this information right away, we were unable to allow for the time periods normally required for clearance under the PRA. The approval granted by OMB is through October 31, 2020. This approval allows the Census Bureau to conduct the SBPS for up to 6 months. The Census Bureau now seeks to extend clearance for the COVID-19 supplemental questions for an additional three years. Currently, there is no way to anticipate an end to the impact of the COVID-19 pandemic on the economy. Therefore, the Census Bureau needs to be prepared for the possibility of collecting these data for an extended period of time.

II. Method of Collection

The only method of collecting information for this survey is electronically through the Census Bureau's online reporting system, Centurion. The collection instrument is optimized for mobile response to further reduce respondent burden. We deem this the most efficient and least burdensome way to collect the information.

III. Data

OMB Control Number: 0607-1014.

Form Number(s): The online survey instrument has no form number.

Type of Review: Regular submission.

Affected Public: Businesses.

Estimated Number of Respondents: 940,713.

Estimated Time per Response: 5 minutes.

Estimated Total Annual Burden Hours: 78,397.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-10677 Filed 5-18-20; 8:45 am]

BILLING CODE 3510-07-P